SECURITIES AND EXCHANGE COMMISSION

[File No. 500-1]

ROK Entertainment Group, Inc., RussOil Corp., Tricell, Inc., Tunex International, Inc. (n/k/a Aone Dental International Group, Inc.), and Wireless Age Communications, Inc.; Order of Suspension of Trading

June 13, 2012.

It appears to the Securities and Exchange Commission that there is a lack of current and accurate information concerning the securities of ROK Entertainment Group, Inc. because it has not filed any periodic reports since the period ended June 30, 2008.

It appears to the Securities and Exchange Commission that there is a lack of current and accurate information concerning the securities of RussOil Corp. because it has not filed any periodic reports since the period ended March 31, 2008.

It appears to the Securities and Exchange Commission that there is a lack of current and accurate information concerning the securities of Tricell, Inc. because it has not filed any periodic reports since the period ended September 30, 2006.

It appears to the Securities and Exchange Commission that there is a lack of current and accurate information concerning the securities of Tunex International, Inc. (n/k/a Aone Dental International Group, Inc.) because it has not filed any periodic reports since the period ended December 31, 2006.

It appears to the Securities and Exchange Commission that there is a lack of current and accurate information concerning the securities of Wireless Age Communications, Inc. because it has not filed any periodic reports since the period ended September 30, 2008.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on June 13, 2012, through 11:59 p.m. EDT on June 26, 2012.

By the Commission.
Jill M. Peterson,
Assistant Secretary.

[FR Doc. 2012-14754 Filed 6-13-12; 11:15 am]

BILLING CODE 8011-01-P